DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Emergency Beacon Registrations.

OMB Control Number: 0648-0295.

Form Number(s): NA.

Type of Request: Regular submission (extension of a current information collection).

Number of Respondents: 234,386.

Average Hours per Response: 15 minutes.

Burden Hours: 58,597.

Needs and Uses: This request is for extension of a currently approved information collection.

An international system exists to use satellites to detect and locate ships, aircraft, and individuals in distress if they are equipped with an emergency radio beacon. Persons purchasing a digital distress beacon, operating in the frequency range of 406.000 to 406.100 MHz, must register it with NOAA. These requirements are contained in Federal Communications Commission (FCC) regulations at 47 CFR 80.1061, 47 CFR 87.199 and 47 CFR 95.1402. The data provided by registration can assist in identifying who is in distress and in suppression of false alarms.

Affected Public: Individuals or households.

Frequency: Biannually.

Respondent's Obligation: Mandatory.

This information collection request may be viewed at reginfo.gov. Follow the instructions to view Department of Commerce collections currently under review by OMB.

Written comments and recommendations for the proposed information collection should be sent within 30 days of publication of this notice to OIRA_Submission@omb.eop.gov or faxed to (202) 395-5806.

Dated: August 4, 2014.
Gwellnar Banks,
Management Analyst, Office of the Chief Information Officer.

[FR Doc. 2014-18753 Filed 8-7-14; 8:45 am]

BILLING CODE 3510-22-P